DEPARTMENT OF LABOR

Employment and Training Administration

[TA-W-40,980]

Dyna-Craft Industries, Inc, Including Temporary Workers of Adecco, Murrysville, PA; Amended Certification Regarding Eligibility to Apply for Worker Adjustment Assistance

In accordance with section 223 of the Trade Act of 1974 (19 U.S.C. 2273) the Department of Labor issued a Certification of Eligibility to Apply for Worker Adjustment Assistance on September 6, 2002, applicable to workers of Dyna-Craft Industries, Inc., Murrysville, Pennsylvania. The notice was published in the Federal Register on September 27, 2002 (67 FR 61161).

At the request of the petitioners, the Department reviewed the certification for workers of the subject firm. Information provided by the company shows that temporary workers of Adecco were working at Dyna-Craft Industries, Inc. to produce stamped metal frames for semiconductors at the Murrysville, Pennsylvania location of the subject firm.

Based on these findings, the Department is amending this certification to include temporary workers of Adecco, Murrysville, Pennsylvania working at Dyna-Craft Industries, Inc., Murrysville, Pennsylvania.

The intent of the Department's certification is to include all workers of Dyna-Craft Industries, Inc. who were adversely affected by the shift in production to Malaysia.

The amended notice applicable to TA-W-40,980 is hereby issued as follows:

All workers of Dyna-Craft Industries, Inc., Murrysville, Pennsylvania including temporary workers of Adecco, Murrysville, Pennsylvania engaged in employment related to the production of stamped metal frames for semiconductors at Dyna-Craft Industries, Inc., Murrysville, Pennsylvania, who became totally or partially separated from employment on or after January 20, 2001, through September 6, 2004, are eligible to apply for adjustment assistance under Section 223 of the Trade Act of 1974.

Signed at Washington, DC this 7th day of April 2003.
Richard Church,
Certifying Officer, Division of Trade Adjustment Assistance.

[FR Doc. 03-9144 Filed 4-14-03; 8:45 am]

BILLING CODE 4510-30-P